DEPARTMENT OF HEALTH AND HUMAN SERVICES

Health Resources and Services Administration

National Rural Health Policy, Community, and Collaboration Program

AGENCY: Health Resources and Services Administration (HRSA), Department of Health and Human Services.

ACTION: Supplemental funding for the National Rural Health Policy, Community, and Collaboration Program.

SUMMARY: HRSA provided supplemental funds to the sole award recipient of the National Rural Health Policy, Community, and Collaboration Program.

FOR FURTHER INFORMATION CONTACT: Alexa Ofori, Senior Advisor, Federal Office of Rural Health Policy, HRSA, at aofori@hrsa.gov and (301) 945-3986.

SUPPLEMENTARY INFORMATION:

Intended Recipient of the Award: The National Rural Health Association (NRHA). The purpose of this program is to identify, engage, educate, and collaborate with rural stakeholders on national rural health policy issues and promising practices in an effort to improve the health of people living in rural communities nationwide.

Amount of Non-Competitive Award: One award for $520,000.

Project Period: August 1, 2023, to July 31, 2024.

CFDA Number: 93.155.

Award Instrument: Supplement.

Authority: Section 711 of the Social Security Act (42 U.S.C. 912).

Table 1—Recipient and Award Amount
Grant No. | Award recipient name | City, state | Supplemental award amount
U16RH03702 | National Rural Health Association | Leawood, KS | $520,000

Justification: The supplement provides funds to NRHA, the recipient of the National Rural Health Policy, Community, and Collaboration Program, to enhance technical assistance activities for rural health care facilities and rural communities to better respond to emergent rural health issues, to track rural provider and patient issues, and to further support rural behavioral health resource needs through partnerships with key stakeholders. These activities align with the goals of the program by creating resources, supporting the development of educational materials, and increasing collaboration among key stakeholders to support rural health needs.

Carole Johnson,
Administrator.

[FR Doc. 2023-25315 Filed 11-15-23; 8:45 am]

BILLING CODE 4165-15-P